DEPARTMENT OF COMMERCE

Submission for OMB Review; Comment Request

The Department of Commerce will submit to the Office of Management and Budget (OMB) for clearance the following proposal for collection of information under the provisions of the Paperwork Reduction Act (44 U.S.C. Chapter 35).

Agency: Bureau of Industry and Security.

Title: BIS Program Evaluation.

Form Number(s): N/A.

OMB Control Number: 0694-0125.

Type of Request: Regular.

Burden Hours: 500 hours.

Number of Respondents: 3,000 respondents.

Average Hours per Response: 10 minutes per response.

Needs and Uses: This collection of information is necessary to obtain feedback from seminar participants. This information helps BIS determine the effectiveness of its programs and identifies areas for improvement. The gathering of performance measures on the BIS seminar program is also essential in meeting the agency's responsibilities under the Government Performance and Results Act (GPRA).

Affected Public: Businesses and other for-profit institutions.

Frequency: On occasion.

Respondent's Obligation: Voluntary.

This information collection request may be viewed at www.reginfo.gov. Follow the instructions to view the Department of Commerce collections currently under review by OMB.

Written comments and recommendations for the proposed information collection should be sent within 30 days of publication of this notice to Jasmeet Seehra, Office of Management and Budget (OMB), by email to jseehra@omb.eop.gov, or by fax to (202) 395-7285.

Dated: April 25, 2016.
Glenna Mickelson,
Management Analyst, Office of the Chief Information Officer.

[FR Doc. 2016-09811 Filed 4-26-16; 8:45 am]

BILLING CODE 3510-33-P